DEPARTMENT OF HEALTH AND HUMAN SERVICES

National Institutes of Health

Center for Scientific Review; Amended Notice of Meeting

Notice is hereby given of a change in the meeting of the Pregnancy and Neonatology Study Section, October 22, 2013, 07:30 a.m. to October 22, 2013, 06:00 p.m., Hilton Garden Inn Bethesda, 7301 Waverly Street, Bethesda, MD 20814, which was published in the Federal Register on October 01, 2013, 78 FR 60295.

The meeting will be held at the National Institutes of Health, 6701 Rockledge Drive, Bethesda, MD 20892 on December 16, 2013, starting at 08:30 a.m. and ending at 06:30 p.m. The meeting is closed to the public.

Dated: October 29, 2013.
Melanie J. Gray,
Program Analyst, Office of Federal Advisory Committee Policy.

[FR Doc. 2013-26178 Filed 11-1-13; 8:45 am]

BILLING CODE 4140-01-P